FEDERAL RESERVE SYSTEM

Change in Bank Control Notices; Acquisition of Shares of Bank or Bank Holding Companies

The notificants listed below have applied under the Change in Bank Control Act (12 U.S.C. 19817 (j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors/ Interested persons may express their views in writing to the Reserve Bank indicated for that notice or to the offices of the Board of Governors. Comments must be received not later than January 3, 2001.

A. Federal Reserve Bank of New York (Betsy Buttrill White, Senior Vice President) 33 Liberty Street, New York, New York 10045-0001:

1. Warwick Community Bancorp, Inc. ESOP, Warwick, New York; to acquire additional voting shares of Warwick Community Bancorp, Inc., Warwick, New York, and thereby indirectly acquire additional voting shares of Warwick Savings Bank, Warwick, New York, and The Towne Center Bank, Lodi, New Jersey.

B. Federal Reserve Bank of Dallas (W. Arthur Tribble, Vice President) 2200 North Pearl Street, Dallas, Texas 75201-2272:

1. John Eric Swenson, Spur, Texas; to acquire additional voting shares of Ranco Bancshares, Inc., Spur, Texas; and thereby indirectly acquire additional voting shares of Spur Security Bank, Spur, Texas.

Board of Governors of the Federal Reserve System, December 14, 2000.
Robert deV. Frierson,
Associate Secretary of the Board.

[FR Doc. 00-32357 Filed 12-19-00; 8:45 am]

BILLING CODE 6210-01-S